DEPARTMENT OF HOMELAND SECURITY

Coast Guard

33 CFR Part 165

[Docket No. USCG-2019-0468]

Safety Zones; Fireworks Displays in the Fifth Coast Guard District

AGENCY: Coast Guard, DHS.

ACTION: Notice of enforcement of regulation; change of enforcement date.

SUMMARY: The Coast Guard will enforce safety zones for fireworks displays on the Metedeconk River, Brick Township, NJ, as described in its regulations for the Fifth Coast Guard District on various dates in July 2019 to provide for safety of life on navigable waterways during these events. During the enforcement periods an operator of a vessel may not enter, remain in, or transit through the safety zone unless authorized by the Captain of the Port or designated Coast Guard patrol personnel on scene.

DATES: The safety zone in section (a), row (9) of the table to 33 CFR 165.506 will be enforced from 6 p.m. through 10 p.m. on each of the following dates: July 4, July 11, July 18, and July 25, 2019.

FOR FURTHER INFORMATION CONTACT: If you have questions about this notice of enforcement, you may call or email Petty Officer Thomas Welker, U.S. Coast Guard, Sector Delaware Bay, Waterways Management Division, telephone 215-271-4814, email Thomas.J.Welker@uscg.mil.

SUPPLEMENTARY INFORMATION: The Coast Guard will enforce the safety zone as described in section (a), row (9) of the table to 33 CFR 165.506 from 6 p.m. through 10:00 p.m. on July 4, July 11, July 18, and July 25 of 2019. The published enforcement period for this event is July 2, July 3, July 4 or July 5, and every Thursday in August. We are announcing a change of enforcement date for this year's event with this notice of enforcement because the events will take place every Thursday in July. This action is necessary to ensure safety of life on the navigable waters of the United States immediately prior to, during, and immediately after the fireworks displays. Our regulation for safety zones of fireworks displays within the Fifth Coast Guard District, table to § 165.506, section (a), row (9), specifies the location of the regulated area as all waters of the Metedeconk River within 300 yards of a fireworks launch site at approximate position latitude 40°03′24″ N, longitude 074°06′42″ W, near the shoreline in Brick Township, NJ. As reflected in § 165.506(d), an operator of a vessel may not enter, remain in, or transit through the safety zone during the enforcement period unless authorized by the Captain of the Port or designated Coast Guard patrol personnel on scene.

In addition to this notice of enforcement in the Federal Register, the Coast Guard will provide notification of the enforcement periods via broadcast notice to mariners.

Dated: June 20, 2019.
Scott E. Anderson,
Captain, U.S. Coast Guard, Captain of the Port, Delaware Bay.

[FR Doc. 2019-13564 Filed 6-25-19; 8:45 am]

BILLING CODE 9110-04-P